Title 3—

The President

Proclamation 8036 of July 13, 2006

Captive Nations Week, 2006

By the President of the United States of America

A Proclamation

The best hope for peace is the expansion of freedom throughout the world. During Captive Nations Week, we reaffirm our commitment to advancing liberty, protecting human rights, and helping people realize the great promise of democracy.

In proclaiming the first Captive Nations Week in 1959, President Dwight Eisenhower said that “the citizens of the United States are linked by bonds of family and principle to those who love freedom and justice on every continent.” Over the past five decades, the force of human freedom has overcome hatred and resentment and overthrown tyrants in nations around the globe. Freedom is on the march, and today more people live in liberty than ever before.

The advance of freedom is the story of our time, and we have witnessed remarkable democratic progress in recent years. The people of Afghanistan elected their first democratic parliament in more than a generation. The people of Kyrgyzstan drove a corrupt regime from power and voted for democratic change. Ending 16 years of civil war and interim governments, the people of Liberia were able to go to the polls, electing Africa's first female president. The courageous citizens of Iraq reached yet another important milestone in their journey towards democracy by forming a national unity government based upon the constitution they approved last October. In Lebanon, citizens recovered their independence and chose their members of parliament in free elections. That newfound independence has come under attack in recent days from terrorists and their state sponsors, who see freedom and democracy as a threat. The United States and its allies will stand with those in Lebanon who continue to struggle for their independence and sovereignty and who refuse to give over their country to extremism and terror.

At this critical time in the history of freedom, no nation can evade the demands of human dignity. In countries like Iran, North Korea, Belarus, Burma, Syria, Zimbabwe, and Cuba, governments must become accountable to their citizens and embrace democracy. The desire for freedom is written in every human heart, and we can be confident that in this century freedom will continue to prevail.

This week is also an opportunity to honor those who have stood against oppression and advanced the fundamental right of all to live in liberty. The courage and sacrifice of these men and women reflect the fact that tyranny can never destroy the desire to be free. Inspired by their example, we will carry on their work to help others realize the universal gift of liberty and to spread the light of democracy to every corner of the world.

The Congress, by Joint Resolution approved July 17, 1959 (73 Stat. 212), has authorized and requested the President to issue a proclamation designating the third week in July of each year as “Captive Nations Week.”

NOW, THEREFORE, I, GEORGE W. BUSH, President of the United States of America, do hereby proclaim July 16 through July 22, 2006, as Captive Nations Week. I call upon the people of the United States to reaffirm their commitment to all those seeking liberty, justice, and self-determination.

IN WITNESS WHEREOF, I have hereunto set my hand this thirteenth day of July, in the year of our Lord two thousand six, and of the Independence of the United States of America the two hundred and thirty-first.

B

[FR Doc. 06-6403

Filed 7-19-06; 8:45 am]

Billing code 3195-01-P